DEPARTMENT OF LABOR

Employment and Training Administration

Investigations Regarding Certifications of Eligibility to Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 26, 2010.

Interested persons are invited to submit written comments regarding the subject matter of the investigations to the Director, Division of Trade Adjustment Assistance, at the address shown below, not later than February 26, 2010.

The petitions filed in this case are available for inspection at the Division of Trade Adjustment Assistance, Employment and Training Administration, U.S. Department of Labor, Room N-5428, 200 Constitution Avenue, NW., Washington, DC 20210.

Signed at Washington, DC, this 1st day of February 2010.
Elliott Kushner,
Certifying Officer, Division of Trade Adjustment Assistance.

Appendix
[TAA petitions instituted between 1/11/10 and 1/15/10]
TA-W | Subject firm (petitioners) | Location | Date of institution | Date of petition
73237 | Ashland, Inc. (Comp) | Dublin, OH | 01/11/10 | 01/11/10
73238 | Solon Manufacturing Company (Comp) | Skowhegan, ME | 01/11/10 | 01/07/10
73239 | Goodrich Corporation (Wkrs) | Chandler, AZ | 01/11/10 | 01/08/10
73240 | Chevron North America Exploration and Production (State) | Anchorage, AK | 01/11/10 | 01/07/10
73241 | KPMG LLP (State) | Seattle, WA | 01/11/10 | 12/30/09
73242 | MA Moslow and Brothers, Inc. (Union) | Buffalo, NY | 01/12/10 | 01/11/10
73243 | Agilent Technologies, Inc. (Comp) | Liberty Lake, WA | 01/12/10 | 01/08/10
73244 | Sears Holding Corporation (Wkrs) | Dallas, TX | 01/12/10 | 01/11/10
73245 | FISERV Fulfillment Services, Inc. (State) | Rocky Hill, CT | 01/12/10 | 01/11/10
73246 | Rexword (Union) | Horsham, PA | 01/12/10 | 01/07/10
73247 | Mercer Tool Corporation (Comp) | St. Marys, OH | 01/12/10 | 01/06/10
73248 | Ellcon National (Wkrs) | Greenville, SC | 01/12/10 | 01/10/10
73249 | Boston Scientific (Comp) | Miami, FL | 01/12/10 | 01/11/10
73250 | Stein Steel Mill Services, Inc. (Union) | Granite City, IL | 01/12/10 | 07/08/09
73251 | Amtex, Inc. (State) | Manteca, CA | 01/13/10 | 01/12/10
73252 | Arvin Sango, Inc. (State) | Merced, CA | 01/13/10 | 01/12/10
73253 | Injex Industries, Inc. (State) | Hayward, CA | 01/13/10 | 01/12/10
73254 | KS Automotive, Inc. (State) | San Leandro, CA | 01/13/10 | 01/12/10
73255 | Mountain Valley Express Co., Inc. (State) | Manteca, CA | 01/13/10 | 01/12/10
73256 | Kyoho Manufacturing California (KHMCA) (State) | Stockton, CA | 01/13/10 | 01/12/10
73257 | Pacific Coast Industries (State) | Tracy, CA | 01/13/10 | 01/12/10
73258 | Pacific Die Cut Industries (State) | Hayward, CA | 01/13/10 | 01/12/10
73259 | PPG Industries, INc. (State) | Troy, MI | 01/13/10 | 01/12/10
73260 | Supplier Link Services (State) | Fremont, CA | 01/13/10 | 01/12/10
73261 | Toyota Logistics Services (State) | Fremont, CA | 01/13/10 | 01/12/10
73262 | Vuteq California Corporation (State) | Hayward, CA | 01/13/10 | 01/12/10
73263 | Winguard Quality Supply, LLC (State) | Fremont, CA | 01/13/10 | 01/12/10
73264 | Suntron Corporation (Comp) | Phoenix, AZ | 01/13/10 | 12/16/09
73265 | HSBC/Beneficial HFC Officesq (Wkrs) | Mettawa Lake, IL | 01/13/10 | 12/18/09
73266 | DuPont Teijin Films (Wkrs) | Fayetteville, NC | 01/13/10 | 11/01/09
73267 | Johnston Supply, Inc. (Comp) | Ashland, OH | 01/13/10 | 12/31/09
73268 | HP Enterprise Services (State) | Plano, TX | 01/13/10 | 01/12/10
73269 | Grand Manor Furniture (Wkrs) | Lenoir, NC | 01/13/10 | 01/12/10
73270 | Atmel Corporation (Comp) | Colorado Springs, CO | 01/13/10 | 01/08/10
73271 | Dakota Imaging (Wkrs) | El Paso, TX | 01/13/10 | 01/12/10
73272 | SCHOTT North America, Inc. (Comp) | Duryea, PA | 01/13/10 | 01/11/10
73273 | Energy Group Solohous EES (Comp) | New York, NY | 01/13/10 | 01/11/10
73274 | AEES Grand Traverse Stamping (Comp) | Traverse City, MI | 01/13/10 | 01/12/10
73275 | Cummins Bridgeway, LLC (Comp) | New Hudson, MI | 01/13/10 | 01/11/10
73276 | Weyerhaeuser Timberlands Vail Washington (Union) | Rainier, WA | 01/13/10 | 01/12/10
73277 | BoMag Company (Wkrs) | Warrensburg, MO | 01/14/10 | 12/29/09
73278 | Maersk Line Agency (Comp) | Madison, NJ | 01/14/10 | 01/12/10
73279 | JP Morgan Chase (Wkrs) | Fort Worth, TX | 01/14/10 | 12/30/09
73280 | Luck Service, Inc. (Wkrs) | New York, NY | 01/14/10 | 12/30/09
73281 | Shorewood Packaging (Wkrs) | Danville, VA | 01/14/10 | 01/12/10
73282 | NCR Corporation (Wkrs) | Dayton, OH | 01/14/10 | 12/31/09
73283 | Martech Medical Product, Inc. (Wkrs) | Harleysville, PA | 01/14/10 | 01/04/10
73284 | Lockheed Martin (Comp) | Cleveland, OH | 01/14/10 | 01/13/10
73285 | Bowne of Chicago, Inc. (State) | Minneapolis, MN | 01/14/10 | 01/05/10
73286 | Georgia Pacific (Wkrs) | Phillips, WI | 01/14/10 | 01/13/10
73287 | Electronic Data Systems (EDS) (State) | Fort Worth, TX | 01/14/10 | 01/12/10
73288 | Eastman Kodak Company (Comp) | Rochester, NY | 01/15/10 | 01/13/10
73289 | Rainbow Play Systems, Inc. (Comp) | Albert Lea, MN | 01/15/10 | 01/14/10
73290 | SMI Crankshaft, LLC (Comp) | Fostoria, OH | 01/15/10 | 01/13/10
73291 | Schneider Electric USA (Comp) | Lincoln, NE | 01/15/10 | 01/06/10
73292 | Huntington Foam, LLC (Wkrs) | Jeannette, PA | 01/15/10 | 01/06/10
73293 | Continental Automotive Systems, US (Comp) | Huntsville, AL | 01/15/10 | 01/07/10
73294 | Elizabeth Carbide Die Company, Inc. (Wkrs) | Mckeesport, PA | 01/15/10 | 01/05/10
73295 | Weatherford International Ltd (Wkrs) | Benbrook, TX | 01/15/10 | 01/14/10

[FR Doc. 2010-3006 Filed 2-12-10; 8:45 am]

BILLING CODE 4510-FN-P